DEPARTMENT OF COMMERCE

Foreign-Trade Zones Board

[Order No. 1779]

Expansion of Foreign-Trade Zone 202; Los Angeles, CA

Pursuant to its authority under the Foreign-Trade Zones Act of June 18, 1934, as amended (19 U.S.C. 81a-81u), the Foreign-Trade Zones Board (the Board) adopts the following Order:

Whereas, the Board of Harbor Commissioners of the City of Los Angeles, grantee of Foreign-Trade Zone 202, submitted an application to the Board for authority to expand FTZ 202 to include a site in Los Angeles, California, within the Los Angeles/Long Beach Customs and Border Protection port of entry (FTZ Docket 47-2010, filed 07/30/2010);

Whereas, notice inviting public comment has been given in the Federal Register (75 FR 47536-47537, 08/06/2010) and the application has been processed pursuant to the FTZ Act and the Board's regulations; and,

Whereas, the Board adopts the findings and recommendations of the examiner's report, and finds that the requirements of the FTZ Act and Board's regulations are satisfied, and that the proposal is in the public interest;

Now, Therefore, the Board hereby orders:

The application to expand FTZ 202 is approved, subject to the FTZ Act and the Board's regulations, including Section 400.28, and to the Board's standard 2,000-acre activation limit for the overall general-purpose zone project, and further subject to a sunset provision that would terminate authority on 08/30/2016 for Site 25 if no activity has occurred under FTZ procedures before that date.

Signed at Washington, DC, this 12th day of August 2011.
Christian Marsh,
Acting Deputy Assistant Secretary for Import Administration, Alternate Chairman, Foreign-Trade Zones Board.
Andrew McGilvray,
Executive Secretary.

[FR Doc. 2011-21780 Filed 8-24-11; 8:45 am]

BILLING CODE 3510-DS-P